DEPARTMENT OF HEALTH AND HUMAN SERVICES

Administration for Children and Families

Proposed Information Collection Activity; Placement and Transfer of Unaccompanied Alien Children Into ORR Care Provider Facilities (0970-0554)

AGENCY: Office of Refugee Resettlement, Administration for Children and Families, Department of Health and Human Services.

ACTION: Request for public comment.

SUMMARY: The Office of Refugee Resettlement (ORR), Administration for Children and Families (ACF), U.S. Department of Health and Human Services (HHS), is inviting public comments on revisions to an approved information collection. The request consists of several forms that allow the Unaccompanied Alien Children (UAC) Program to place UAC referred to ORR by Federal agencies into care provider facilities and to transfer UAC within the ORR care provider network.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street, SW, Washington, DC 20201, Attn: ACF Reports Clearance Officer. All requests, emailed or written, should be identified by the title of the information collection.

SUPPLEMENTARY INFORMATION: Description: ORR plans to revise all 13 instruments currently approved under OMB #0970-0554, all of which will be incorporated into ORR's new case management system, UAC Path. Five of the instruments contain revisions to the formatting, organization, or wording of field labels with no changes to the content. The remaining eight instruments contain changes in content. In addition, ORR plans to add four new instruments to this collection that will also be incorporated into UAC Path.

1. Placement Authorization (Form P-1): This instrument is used by ORR to authorize a care provider to provide care and services to UAC placed in their facility. Care providers sign the instrument to acknowledge certain responsibilities related to the care of the UAC. ORR revised the formatting, but no changes were made to the content. The average burden minutes per response was increased from 1 to 5 minutes.

2. Authorization for Medical, Dental, and Mental Health Care (Form P-2): This instrument is used by ORR to authorize a care provider to provide medical, dental, and mental health care services to UAC placed in their facility. Care providers sign the instrument to acknowledge certain responsibilities related to the care of the UAC. ORR revised the formatting, but no changes were made to the content. The average burden minutes per response was increased from 1 to 5 minutes.

3. Notice of Placement in a Restrictive Setting (Form P-4/4s): This instrument is used by care providers to document and inform UAC of the reason they have been placed in a restrictive setting. ORR revised the formatting, but no changes were made to the content.

4. Long Term Foster Care Placement Memo (Form P-5): This instrument is used by care providers to ensure placement in a foster home that meets the UAC's needs and continuity of services. ORR revised the formatting and the order in which the fields appear. ORR added two new questions asking respondents to (1) describe any specials skills or training of the foster family or group home, and (2) provide any further available information and/or considerations about the time line for physical transfer of the minor.

5. UAC Referral (formerly titled Intakes Placement Checklist and Add New UAC) (Form P-7): This instrument is used by Federal agencies to refer UAC to ORR custody and by ORR Intakes staff to place UAC in an ORR care provider facility. It also contains a checklist that is used by ORR Intakes staff to determine whether initial placement in a restrictive setting is appropriate for a UAC. ORR combined 2 of its current instruments, Intakes Placement Checklist and Add New UAC, into 1 instrument. The average burden minutes per response was increased from 15 to 60 minutes, plus an additional 30 minutes if the placement checklist must be completed. In addition, ORR made the following revisions:

○ Moved the “Immigration Status at Referral” field to the UAC Profile instrument.

○ Created a new “Parent/Legal Guardian Separation” section. This section contains 5 fields, and replaces the single question on the current version of the Add New UAC instrument.

○ Created a new “MPP Information” section to capture information about enrollment in the Migrant Protection Protocol (MPP) program. This section contains 2 fields.

○ Moved the field “Related to Other UAC(s)?” to the UAC Profile instrument.

○ Moved fields related to family groups to the UAC Profile and Family Group Entity instruments.

○ Added the following fields to the “Apprehension and Referral Information” section: “Referring Sector Name”, “POC Primary Email”, “POC Secondary Email”, “Referring Sector Code”.

○ Moved fields in the “Parent/Relative Information” section to the UAC Profile instrument.

○ Renamed the “Notes” field in the “Referral Notes” section to “Apprehension/Journey Notes” and added a new field, “Referral Cancellation Reason”.

○ Renamed the “ORR Placement Information” section to “Placement Request” and added the following fields: “Required Placement Request”, “Placement Requested Date/Time”, “Program/Facility”, “Not Accepted Reason”, “Placement Decision Date/Time”, “Placement Notes”, and “Override Stop Placement Reason”.

○ Added a new section titled “Special Placement Request” that contains the fields found in the “Placement Determination” section of the current version of the Intakes Placement Checklist.

○ Created a new “Criminal Information” section. This section contains 9 fields, and replaces the two questions on criminal charges and acting as a footguide on the current version of the Add New UAC instrument.

○ A new section titled “Criminal Charges” as added to capture more detailed information if the UAC has any criminal charges, which contains 9 fields.

○ A new “Detention Facilities” section as created to capture more detailed information if the UAC was ever held in a detention facility. This section contains 9 fields.

○ Added a new “Documents” section where documents related directly to the UAC's referral may be uploaded.

○ Added a new “Entry Team” section in which read and/or write access can be granted to individuals who need access privileges to the record, but do not typically need such privileges for a referral record.

○ Revised the Intakes Placement Checklist as follows:

Reorganized the checklist into distinct sections for staff secure and secure placement criteria.

Removed “UAC will be turning 18 year of age in the next month” as an escape risk criteria.

Removed the “Danger to Self” section.

Revised the lists of criminal offenses in both the staff secure and secure sections.

○ Added a new “Initial Health Information” section to capture more detailed information about the UAC's health. This section contains 31 fields.

6. Care Provider Checklist for Transfers to Influx Care Facilities (Form P-8): This instrument is used by care providers to ensure that all criteria for transfer of a UAC to an influx care facility have been met. ORR revised the formatting and reworded some field labels, but no changes were made to the content.

7. Medical Checklist for Non-Influx Transfers (Form P-9A): This instrument is used by care providers to ensure that UAC are medically cleared for transfer within the ORR care provider network, excluding transfer to an influx care facility. ORR revised the formatting and reworded the questions. In addition, ORR removed the question asking if the child is free of all medical conditions requiring specialist care.

8. Medical Checklist for Transfers to Influx Care Facilities (Form P-9B): This instrument is used by care providers to ensure that UAC are medically cleared for transfer to an influx care facility. ORR revised the formatting and instructions, reworded most questions, and clarified which questions are only applicable to influx care facilities located on Department of Defense (DOD) sites. ORR also added 4 new questions that ask about sexually transmitted disease, injection drug use, allergies, and the completion of lab and diagnosis field in UAC Path.

9. Transfer Request (Form P-10A): This instrument is used by care provider facilities, ORR contractor staff, and ORR Federal staff to process recommendations and decisions for transfer of a UAC within the ORR care provider network for non-influx transfers. ORR revised the formatting and reworded many of the section titles and fields. In addition, ORR made the following revisions to this instrument:

○ In the “Transfer Request” section, ORR removed the field “Requested Date” and added the following fields: “Status”, “Transfer Type”, “High Priority”, “Transfer Cancellation Reason”, “Case Coordinator”, and “Legal Eligibility”.

○ Added the following fields to the “Case Coordinator Recommendation” section: “Pending Information”, “FFS Authorized to Proceed”, and “Add to Waitlist?”.

○ Moved fields related to the UAC's attorney of record from the “Reason for Transfer Request” section to the “Casefile Summaries” section.

○ Added a new “Transfer Designation” section containing 3 fields.

○ Added a “Remand for Further Information” to the “ORR Decision” section.

○ Removed the “Transfer Packet” section.

○ Added the following fields to the “COA-COV” section: “Specify UAC Special Needs” and “Other Change Venue Cause”.

○ Added a new “Entry Team” section in which read and/or write access can be granted to individuals who need access privileges to the record, but do not typically need such privileges for a referral record.

○ Added a new “Documents” sections where documents related directly to the UAC's transfer may be uploaded.

○ Added a new “Program Referrals” section in which care providers can search for programs that fit the UAC's transfer criteria and make referrals.

10. Influx Transfer Request (Form P-10B): This instrument is used by care provider facilities and ORR Federal staff to process recommendations and decisions for transfers to an influx care facility. This is a new instrument that ORR plans to add to this collection.

11. Transfer Summary and Tracking (formerly titled Transfer Request and Tracking Form) (Form P-11): This instrument is used by care providers to track the physical transfer of the UAC and their belongings. ORR revised the formatting and reworded some of the fields. ORR also removed the field “FINS Number” and added the fields “Gender” and Gender Other.”

12. Program Entity (formerly titled UAC Portal Capacity Report) (Form P-12): This instrument is used by care providers and ORR to track certain information related to care provider programs, such as location, contact information, bed capacity, state licensure, grant information, monitoring, and program census. ORR greatly expanded this instrument to track multiple types of information related to care provider programs. The average burden minutes per response was increased from 5 to 30 minutes. In addition to bed capacity, this instrument contains the following information:

○ An overview of the program that includes name, status, parent entity, type, address, region, and acceptable placement types.

○ Various program points of contact.

○ Stakeholder information (child advocate program, legal service provider, field office juvenile coordinator (FOJC)).

○ Information related to the program's State licensing agency and licensing status.

○ Information related to the program's Administration for Children and Families grant.

○ Fields tracking the reason and dates of stop placements, if applicable.

○ Information related to the program's ORR monitoring schedule.

○ Sections that list all events and incident reports created for the program (cleared as separate instruments in OMB #0970-0547).

○ Census information and the ability to initiate prescreening for transfers to influx care facilities (cleared as Influx Transfer Manual and Prescreen Review in this collection).

○ An area to add individuals to the program's team (e.g., assigned Federal Field Specialist, Project Officer).

○ An area to upload document relation to the facility and its operations and/or compliance.

13. UAC Profile (formerly titled Add New UAC) (Form P-13): This instrument is used by referring Federal agencies and care providers to create a profile for a UAC from which all information related to their case can be accessed. Previously, the purpose of this instrument was to (1) create an initial profile and (2) receive/process referrals. The function of receiving/processing referrals and the related fields from the Add New UAC instrument were moved to the UAC Referral instrument, as noted above in the description of changes for UAC Referral. The function of creating an initial profile in the system and related fields containing basic UAC information remain with this instrument. However, this purpose of this instrument has been expanded. It now acts as a hub where users can assess all records related to a UAC's case. Most of the records accessible from the UAC Profile are being cleared as separate instruments, either in this or another one of ORR's information collections. The sections being cleared under this instrument are as follows: Profile Information, Program Designation, Legal-Immigration, Legal-Administrative, System Information, Apprehended Relationships, Other Relationships, Adult Contact Relationships, Entity Team, and Documents. The average burden minutes per response was increased from 15 to 45 minutes.

14. ORR Transfer Notice—Notice of Transfer to ICE Chief Counsel—Change of Address/Change of Venue (Form P-14): This instrument is used by care providers to notify DHS of the transfer of a UAC within the ORR care provider network so that DHS may file a Motion for Change of Venue and/or Change of Address with the Executive Office for Immigration Review to ensure the UAC's immigration case is transferred to the local immigration court, if applicable. ORR revised the formatting, but no changes were made to the content.

15. Family Group Entity (Form P-15): This instrument is used by the ORR Intakes Team to associate UACs who are members of the same family with each other. This is a new instrument that ORR plans to add to this collection.

16. Influx Transfer Manifest (Form P-16): This instrument is used by designated care provider staff and ORR staff to plan, track, and notify stakeholders of group transfers to an influx care facility. This is a new instrument that ORR plans to add to this collection.

17. Influx Transfer Manual and Prescreen Review (Form P-17): This instrument is used by designated care provider staff to evaluate each UAC's eligibility to be transferred to an influx care facility. Care provider staff review and update information on daily during times of influx. This is a new instrument that ORR plans to add to this collection.

Respondents: ORR grantee and contractor staff; other Federal agencies.

Annual Burden Estimates
Instrument | Annual number of respondents | Annual number of responses per respondent | Average burden minutes per response | Annual total burden hours
Placement Authorization (Form P-1) | 216 | 278 | 5 | 5,004
Authorization for Medical, Dental, and Mental Health Care (Form P-2) | 216 | 278 | 5 | 5,004
Notice of Placement in a Restrictive Setting (Form P-4/4s) | 15 | 34 | 20 | 170
Long Term Foster Care Placement Memo (Form P-5) | 30 | 3 | 15 | 23
UAC Referral (Form P-7) | 16 | 3,250 | 60 | 52,000
UAC Referral—Intakes Placement Checklist (Form P-7) | 16 | 9 | 30 | 72
Care Provider Checklist for Transfers to Influx Care Facilities (Form P-8) | 216 | 10 | 15 | 540
Medical Checklist for Transfers (Form P-9A) | 216 | 27 | 5 | 486
Medical Checklist for Influx Transfers (Form P-9B) | 216 | 63 | 10 | 2,268
Transfer Request (Form P-10A)—Grantee Case Manager | 216 | 37 | 25 | 3,330
Transfer Request (Form P-10A)—Contractor Case Coordinator | 250 | 37 | 20 | 3,083
Influx Transfer Request (Form P-10B) | 216 | 63 | 25 | 5,670
Transfer Summary and Tracking (Form P-11) | 216 | 37 | 10 | 1,332
Program Entity (Form P-12) | 216 | 12 | 30 | 1,296
UAC Profile (Form P-13) | 216 | 241 | 45 | 39,042
ORR Transfer Notification—ORR Notification to ICE Chief Counsel of Transfer of UAC and Request to Change Address/Venue (Form P-14) | 216 | 37 | 10 | 1,332
Family Group Entity (Form P-15) | 16 | 188 | 5 | 251
Influx Transfer Manifest (Form P-16) | 3 | 12 | 20 | 12
Influx Transfer Manual and Prescreen Criteria Review (Form P-17) | 216 | 43,333 | 30 | 4,679,964
Estimated Annual Burden Hours Total: |  |  |  | 4,800,879

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996)

Mary B. Jones,
ACF/OPRE Certifying Officer.

[FR Doc. 2021-01085 Filed 1-15-21; 8:45 am]

BILLING CODE 4184-45-P